DEPARTMENT OF ENERGY

Federal Energy Regulatory Commission

Combined Notice of Filings #1

Take notice that the Commission received the following electric rate filings:

Docket Numbers: ER07-771-006.

Applicants: Louisville Gas and Electric Company, Kentucky Utilities Company.

Description: Annual Schedule 2 True-Up Filing of Louisville Gas and Electric Company/Kentucky Utilities Company.

Filed Date: 10/23/12.

Accession Number: 20121023-5054.

Comments Due: 5 p.m. ET 11/13/12.

Docket Numbers: ER13-167-000.

Applicants: Caerus Energy, LLC.

Description: Caerus Energy, LLC Market Based Rate Tariff Application Filing to be effective 10/22/2012..

Filed Date: 10/22/12.

Accession Number: 20121022-5098.

Comments Due: 5 p.m. ET 11/13/12.

Docket Numbers: ER13-168-000.

Applicants: California Independent System Operator Corporation.

Description: 2012-10-22 Amendment No. 2 to Western-DSR IBAAOA to be effective 1/3/2013.

Filed Date: 10/22/12.

Accession Number: 20121022-5131.

Comments Due: 5 p.m. ET 11/13/12.

Docket Numbers: ER13-169-000.

Applicants: Midwest Independent Transmission System Operator, Inc.

Description: SA 2236 CapX-Fargo T-T to be effective 10/23/2012.

Filed Date: 10/22/12.

Accession Number: 20121022-5152.

Comments Due: 5 p.m. ET 11/13/12.

Docket Numbers: ER13-170-000.

Applicants: Midwest Independent Transmission System Operator, Inc.

Description: SA 2386 CapX Fargo Phase 3 to be effective 10/23/2012.

Filed Date: 10/22/12.

Accession Number: 20121022-5169.

Comments Due: 5 p.m. ET 11/13/12.

Docket Numbers: ER13-171-000.

Applicants: Midwest Independent Transmission System Operator, Inc.

Description: Carmel Data Center Amendment Filing to be effective 9/1/2012.

Filed Date: 10/23/12.

Accession Number: 20121023-5082.

Comments Due: 5 p.m. ET 11/13/12.

Docket Numbers: ER13-172-000.

Applicants: Midland Cogeneration Venture Limited Partnership.

Description: Midland Cogeneration Venture Limited Partnership submits tariff filing per 35.13(a)(2)(iii: Midland Cogeneration Venture Limited Partnership Baseline MBR Tariff to be effective 9/22/2010.

Filed Date: 10/23/12.

Accession Number: 20121023-5095.

Comments Due: 5 p.m. ET 11/13/12.

Docket Numbers: ER13-173-000.

Applicants: PSEG Fossil LLC.

Description: PSEG Fossil LLC submits tariff filing per 35.1: Rate Schedules and Service Agreements Tariff to be effective 10/23/2012.

Filed Date: 10/23/12.

Accession Number: 20121023-5096.

Comments Due: 5 p.m. ET 11/13/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 23, 2012.
Nathaniel J. Davis, Sr.,
Deputy Secretary.

[FR Doc. 2012-26720 Filed 10-29-12; 8:45 am]

BILLING CODE 6717-01-P